DEPARTMENT OF TRANSPORTATION

Federal Aviation Administration

14 CFR Part 71

[Docket No. FAA-2005-22021; Airspace Docket No. 04-AAL-06]

Establishment of Class E Airspace; Arctic Village, AK

AGENCY: Federal Aviation Administration (FAA), DOT.

ACTION: Final rule; correction.

SUMMARY: This action corrects an error in the airspace description contained in a Final Rule that was published in the Federal Register on Thursday, November 17, 2005 (70 FR 69646). Airspace Docket No. 04-AAL-06.

DATES: Effective Date: 0901 UTC, February 16, 2006.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document 05-22771, Airspace Docket No. 04-AAL-06, published on Thursday, November 17, 2005 (70 FR 69646), established Class E airspace at Arctic Village, AK. An error was discovered in the airspace description that misidentified the airfield location. This action corrects that error.

Correction to Final Rule

Accordingly, pursuant to the authority delegated to me, the airspace description of the Class E airspace published in the Federal Register, Thursday, November 17, 2005 (70 FR 69646), (FR Doc 05-22771, page 69646, column 3) is corrected as follows:

§ 71.1 [Corrected]

* * * * *

AAL AK E5 Arctic Village, AK [Corrected]

Arctic Village, AK

(Lat. 68°06′53″ N., long. 145°34′46″ W.)

That airspace extending upward from 700 feet above the surface within a 6.4-mile radius of the Arctic Village Airport and within 3 miles each side of the 040° bearing from the Arctic Village airport extending from the 6.4-mile radius to 14.8 miles North of the airport and that airspace extending upward from 1,200 ft. above the surface within a 65-mile radius of the airport.

* * * * *

Issued in Anchorage, AK, on December 13, 2005.
Anthony M. Wylie,
Manager, Safety, Area Flight Service Operations.

[FR Doc. 05-24231 Filed 12-19-05; 8:45 am]

BILLING CODE 4910-13-M